Proclamation 10767 of May 31, 2024

Lesbian, Gay, Bisexual, Transgender, Queer, and Intersex Pride Month, 2024

By the President of the United States of America

A Proclamation

During Pride Month, we celebrate the extraordinary courage and contributions of the Lesbian, Gay, Bisexual, Transgender, Queer, and Intersex (LGBTQI+) community. We reflect on the progress we have made so far in pursuit of equality, justice, and inclusion. We recommit ourselves to do more to support LGBTQI+ rights at home and around the world.

For generations, LGBTQI+ Americans have summoned the courage to live authentically and proudly—even when it meant putting their lives and livelihoods at risk. In 1969 at the Stonewall Inn in New York, brave LGBTQI+ individuals protested the violence and marginalization they faced, boosting a civil rights movement for the liberation of LGBTQI+ people that has transformed our Nation. Since then, courageous LGBTQI+ Americans continue to inspire and bring hope to all people seeking a life true to who they are. LGBTQI+ people also continue to enrich every aspect of American life as educators, entertainers, entrepreneurs, athletes, actors, artists, scientists, scholars, diplomats, doctors, service members, veterans, and so much more.

Advancing equality for the LGBTQI+ community is a top priority for my Administration. I signed the historic Respect for Marriage Act, which protects the marriage of same-sex and interracial couples. As Commander in Chief, I was proud to have ended the ban on transgender Americans serving in the United States military. I signed historic Executive Orders strengthening civil rights protections for housing, employment, health care, education, and the justice system. We are also combating the dangerous and cruel practice of so-called “conversion therapy” and implementing a national strategy to end the HIV epidemic in this country. We ended the disgraceful practice of banning gay and bisexual men from donating blood. We are doing this work here at home and around the globe, where LGBTQI+ community members are fighting for recognition of their fundamental human rights and seeking to live full lives, free from hate-fueled violence and discrimination.

But for all the progress, we know real challenges persist. Last year, as we celebrated Pride Month on the South Lawn of the White House, I had the honor of meeting survivors of the Club Q and Pulse shootings, which tragically took the lives of LGBTQI+ Americans. Although my Administration passed the most significant gun law in nearly 30 years, the Congress must do its part and ban assault weapons. At the same time, families across the country face excruciating decisions to relocate to a different State to protect their children from dangerous and hateful anti-LGBTQI+ laws, which target transgender children, threaten families, and criminalize doctors and nurses. These bills and laws attack our most basic values and freedoms as Americans: the right to be yourself, the right to make your own medical decisions, and the right to raise your own children. Some things should never be put at risk: your life, your safety, and your dignity.

To the entire LGBTQI+ community—and especially transgender children—please know that your President and my entire Administration have your back. We see you for who you are: made in the image of God and deserving of dignity, respect, and support. That is why I have taken historic action to protect the LGBTQI+ community. We are ensuring that the LGBTQI+ community is protected against discrimination when accessing health care, and the Department of Health and Human Services, Department of Homeland Security, and Department of Justice launched a safety partnership to provide critical training and support to the community, including resources to help report hate crimes and better protect festivals, marches, community centers, businesses, and health care providers serving the community. The Department of Education and the Department of Justice are also addressing whether book bans may violate Federal civil rights laws when they target LGBTQI+ students or students of color and create hostile classroom environments. Additionally, we are providing specialized services through the nationwide crisis hotline for LGBTQI+ youth who feel isolated and overwhelmed—anyone who needs help can call 988 and then press 3 to be connected to a professional counselor. We are committing more resources for mental health programs that help families support and affirm their kids and are starting a new Federal initiative to address LGBTQI+ homelessness. We finalized new regulations requiring States to protect LGBTQI+ kids in foster care.

America is the only Nation in the world founded on an idea: We are all created equal and deserve to be treated equally throughout our lives. We have never fully lived up to that idea, but we have never fully walked away from it either. This month, we recommit to realizing the promise of America for all Americans, to celebrating courageous LGBTQI+ people, and to taking pride in the example they set for our Nation and the world.

NOW, THEREFORE, I, JOSEPH R. BIDEN JR., President of the United States of America, by virtue of the authority vested in me by the Constitution and the laws of the United States, do hereby proclaim June 2024 as Lesbian, Gay, Bisexual, Transgender, Queer, and Intersex Pride Month. I call upon the people of the United States to recognize the achievements of the LGBTQI+ community, to celebrate the great diversity of the American people, and to wave their flags of pride high.

IN WITNESS WHEREOF, I have hereunto set my hand this thirty-first day of May, in the year of our Lord two thousand twenty-four, and of the Independence of the United States of America the two hundred and forty-eighth.

[FR Doc. 2024-12482

Filed 6-4-24; 11:15 am]

Billing code 3395-F4-P